FEDERAL RESERVE SYSTEM

Formations of, Acquisitions by, and Mergers of Bank Holding Companies; Correction

This notice corrects a notice (FR Doc. 00-24690) published on pages 57815 and 57816 of the issue for September 26, 2000.

Under the Federal Reserve Bank of Kansas City heading, the entry for Grace Investment Company, Inc., Alva, Oklahoma, is revised to read as follows:

A. Federal Reserve Bank of Kansas City (D. Michael Manies, Assistant Vice President), 925 Grand Avenue, Kansas City, Missouri 64198-0001:

1. Grace Investment Company, Inc., Alva, Oklahoma; to become a bank holding company by acquiring 93.87 percent of the voting shares, for a total of 100 percent of the voting shares of The First National Bank in Okeene, Okeene, Oklahoma.

In connection with this application, applicant also has applied to engage in lending activities, pursuant to § 225.28(b)(1) of Regulation Y.

Comments on this application must be received by October 20, 2000.

Board of Governors of the Federal Reserve System, October 3, 2000.
Robert deV. Frierson,
Associate Secretary of the Board.

[FR Doc. 00-25772 Filed 10-5-00; 8:45 am]

BILLING CODE 6210-01-P